DEPARTMENT OF DEFENSE

Department of the Army, Corps of Engineers

Public Notice of Intent for Studies and Initial Scoping Meeting for Gulf Intracoastal Waterway Brazos River Floodgates and Colorado River Locks Feasibility Study

AGENCY: Department of the Army, U.S. Army Corps of Engineers, DoD.

ACTION: Notice of intent and public scoping meeting.

SUMMARY: This notice provides a summary of the ongoing feasibility study activities for the Gulf Intracoastal Waterway (GIWW) Brazos River Floodgates (BRFG) and Colorado River Locks (CRL) Feasibility Study and solicit public input regarding the study. The objective of the feasibility study is to investigate and recommend solutions to improve traffic safety and navigation efficiencies at the confluence of the GIWW with the BRFG and CRL. The GIWW BRFG/CRL Feasibility Study will identify and evaluate possible structural and navigation alternatives to reduce traffic accidents and navigation delays. The non-Federal sponsor for the project is the Texas Department of Transportation (TXDOT).

DATES: The Galveston District will hold the Initial Public Scoping Meeting for the Feasibility Phase of the study on July 12, 2016 from 6:00-8:00 p.m.

ADDRESSES: The meeting will be held at the West Columbia Civic Center, 516 E. Brazos Ave. (State Highway 35), West Columbia, TX 77486.

FOR FURTHER INFORMATION CONTACT: Franchelle Craft, (409) 766-3187.

SUPPLEMENTARY INFORMATION: Study Background. In 2000, the Galveston District completed a reconnaissance study to assess the feasibility of modifying the configurations of the BRFG and CRL to reduce traffic accidents and delays. The study resulted in the determination that there was Federal interest in continuing to the feasibility phase of the study. Funding for the feasibility phase of the study was approved in Fiscal Year 2016. Recognizing the hydrologic connectivity of the GIWW system, the decision was made to conduct the assessment of the BRFG and CRL separately and combine the results into one integrated feasibility report.

Navigation along the GIWW is constrained at the confluence with the BRFG and the CRL resulting in the following conditions:

• Inadequate channel and crossing widths for modern vessels;

• Outdated floodgate construction and width in the floodgate chambers at the Brazos River;

• Outdated lock construction at the Colorado River leading to mechanical failure;

• Shutdown of operations during high water periods presenting a significant security concern;

• Increased hydrology (river flows due to flood events) impacting navigation traffic;

• Increased operations and maintenance costs to prevent marine buildup on mechanical elements of the structures;

• Increased sedimentation at the mouth of the rivers;

• Shoreline erosion.

The Feasibility Study will assess the conditions identified above and develop specific measures/alternatives that can be combined or used as standalone actions to address the problems at each location.

Study Process. During the feasibility phase, detailed engineering, hydrology, economic analysis, and environmental studies are performed. The goal of the feasibility phase is to find the most cost-effective solution that responds to the problems identified above while protecting the Nation's environment. The final feasibility report documents the study results and findings, the selection process of the recommended alternative, and the costs and benefits of the recommended plan. The feasibility study ends when the report is submitted to Congress for authorization.

Study Status. The Feasibility study will reevaluate the proposed alternatives identified in the 2000 Reconnaissance Study to determine the feasibility of undertaking modifications to the Brazos and Colorado river crossings, as well as identify changes to the floodgate and lock structures at each location that are economically and environmentally justified. There is a need to reduce navigation impacts and costly waterborne traffic delays that are a result of aging infrastructure and inadequate channel dimensions for modern vessels. Alternatives to be evaluated in the feasibility phase include:

• Moving the gates away from the river;

• Widening the gates;

• Reconfiguring the guide wall to lessen the angle to the GIWW;

• Straightening the crossing at the Brazos and Colorado Rivers;

• Lock modifications (construction of new locks);

• Removal of floodgates; and/or;

• Some combination of these and other measures.

Meeting. The Galveston District will hold the Initial Public Scoping Meeting for the Feasibility Phase on July 12, 2016 from 6:00-8:00 p.m. at the West Columbia Civic Center. The purpose of the meeting will be to inform the community about the proposed navigation modification project, present how the study will be conducted, solicit public input regarding the initial scope of potential issues/alternatives to be addressed, and identify those issues/alternatives that should be analyzed further, or eliminated, based on their significance and effects on the environment. The information from the public meeting will be used in the development of an Environmental Impact Statement in compliance with the National Environmental Policy Act (NEPA) requirements. This notice serves as an invitation for the public to attend. The public will be provided an opportunity for questions and comments.

We are soliciting comments/concerns on the opportunities to improve navigation along the GIWW at the Brazos and Colorado Rivers, the identification of resources that may occur within the study area, and other social, economic, and environmental concerns.

All interested parties are invited to provide input to this study. Please send your comments or questions regarding this notice or mailing list updates to USACE SWG, 2000 Ft. Point Rd., Galveston, TX 77550. Written input can also be submitted and is requested by August 11, 2016. If we can provide further information, contact the project manager, Ms. Franchelle Craft, by phone at (409) 766-3187 or by email at franchelle.e.craft@usace.army.mil.

Eric W. Verwers,
Director, Regional Planning and Environmental Center.

[FR Doc. 2016-14694 Filed 6-21-16; 8:45 am]

BILLING CODE 3720-58-P